DEPARTMENT OF TRANSPORTATION

Federal Aviation Administration

Agency information Collection Activities Under OMB Review

AGENCY: Federal Aviation Administration (FAA), DOT.

ACTION: Notice.

SUMMARY: In compliance with the Paperwork Reduction Act of 1995 (44 U.S.C. 3501 et seq.), this notice announces that the Information Collection Requests (ICS) abstracted below have been forwarded to the Office of Management and Budget (OMB) for extension of the currently approved collections. The ICR describes the nature of the information collection and the expected burden. The Federal Register notice with a 60-day comment period soliciting comments on the following collections of information was published on March 28, 2003, pages 15259-15260.

DATES: Comments must be submitted on or before July 24, 2003. A comment to OMB is most effective if OMB receives it within 30 days of publication.

FOR FURTHER INFORMATION CONTACT: Judy Street on (202) 267-9895.

SUPPLEMENTARY INFORMATION:

Federal Aviation Administration (FAA)

1. Title: Bird and Other Wildlife Strike Report.

Type of Request: Revision of a currently approved collection.

OMB Control Number: 2120-0045.

Forms(s): FAA Form 5200-7.

Affected Public: A total of 6,100 air carriers and commercial operators.

Abstract: Wildlife strike data are collected to develop standards and monitor hazards to aviation. Data identify wildlife strike control requirements and provide in-service data on aircraft component failure. The FAA form 5200-7 is most often completed by the pilot-in-charge of an aircraft involved in a wildlife collision or by Air Traffic control Tower personnel, or other airline personnel who have knowledge of the incident.

Estimated Burden Hours: An estimated 488 hours annually.

2. Title: Passenger Facility Charge (PFC) Application.

Type of Request: Extension of a currently approved collection.

OMB Control Number: 2120-0557.

Forms(s): FAA form 5500-1.

Affected Public: A total of 450 public agencies and members of the aviation industry.

Abstract: Title 49 USC 40117 authorizes airports to impose passenger facility charges (PFCs). This program requires public agencies and certain members of the aviation industry to prepare and submit applications and reports to the FAA.

Estimated Burden Hours: A total of 26,548 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Dated: Issued in Washington, DC, on June 18, 2003.
Judith D. Street,
FAA Information Collection Clearance Officer, Standards and Information Division, APF-100.

[FR Doc. 03-15958 Filed 6-23-03; 8:45 am]

BILLING CODE 4910-13-M